Proclamation 9934 of September 27, 2019

Gold Star Mother's and Family's Day, 2019

By the President of the United States of America

A Proclamation

Every life lost in service to our country is precious and irreplaceable. Our deepest sympathy, utmost respect, unwavering support, and profound gratitude go to the families who must endure the ongoing pain of such loss. On Gold Star Mother's and Family's Day, we solemnly honor these families and pray for their continued strength and courage.

Since the founding of our Republic, our liberty has been defended by our men and women in uniform. Their love of country and devotion to duty represent the very best of America. Our Nation's military families share in the demands and pressures of this noble calling. The cost is exceedingly high—with multiple deployments, relocations, and separations—but the sobering price of their sacrifice is most clearly seen in the families who have faced the life-altering loss of a father, mother, son, daughter, sister, or brother who died fighting for our freedom.

Because of tragedies that forever change the course of their lives, these families receive the designation of the Gold Star. Each story is unique; each death is profoundly personal. The fallen leave behind families who must learn to carve out a new future while coping with their loved one's absence on holidays, at celebrations, and during everyday activities. Their pain permeates every facet of life, never fully fading.

Yet, in spite of their challenges and heartbreak, Gold Star families exemplify amazing grace and resilience. From the depths of grief, they emerge to find hope, purpose, and joy, serving as an example and a source of inspiration for others. These patriots know the true cost of freedom, and it is the responsibility of all Americans to stand alongside them and share in shouldering this profound burden.

The Congress, by Senate Joint Resolution 115 of June 23, 1936 (49 Stat. 1895 as amended), has designated the last Sunday in September as “Gold Star Mother's Day.”

NOW, THEREFORE, I, DONALD J. TRUMP, President of the United States of America, by virtue of the authority vested in me by the Constitution and the laws of the United States, do hereby proclaim Sunday, September 29, 2019, as Gold Star Mother's and Family's Day. I call upon all Government officials to display the flag of the United States over Government buildings on this special day. I also encourage the American people to display the flag and hold appropriate ceremonies as a public expression of our Nation's gratitude and respect for our Gold Star Mothers and Families.

IN WITNESS WHEREOF, I have hereunto set my hand this twenty-seventh day of September, in the year of our Lord two thousand nineteen, and of the Independence of the United States of America the two hundred and forty-fourth.

[FR Doc. 2019-21617

Filed 10-1-19; 11:15 am]

Billing code 3295-F0-P